DEPARTMENT OF COMMERCE

Patent and Trademark Office

Patent Examiner Employment Application (Formerly Patent Examiner Employment Application—Job Application Rating System (JARS))

ACTION: Proposed collection; comment request.

SUMMARY: The United States Patent and Trademark Office (USPTO), as part of its continuing effort to reduce paperwork and respondent burden, invites the general public and other Federal agencies to take this opportunity to comment on the revision of a continuing information collection, as required by the Paperwork Reduction Act of 1995, Public Law 104-13 (44 U.S.C. 3506(c)(2)(A)).

DATES: Written comments must be submitted on or before May 16, 2008.

ADDRESSES: You may submit comments by any of the following methods:

• E-mail: Susan.Fawcett@uspto.gov. Include “0651-0042 comment” in the subject line of the message.

• Fax: 571-273-0112; marked to the attention of Susan K. Fawcett.

Mail: Susan K. Fawcett, Records Officer, Office of the Chief Information Officer, Customer Information Services Group, Public Information Services Division, U.S. Patent and Trademark Office, P.O. Box 1450, Alexandria, VA 22313-1450.

• Federal Rulemaking Portal:3 http://www.regulations.gov.

FOR FURTHER INFORMATION CONTACT: Requests for additional information should be directed to the attention of Howard Staik, Chief of the Workforce Employment Division, Office of Human Resources, U.S. Patent and Trademark Office (USPTO), P.O. Box 1450, Alexandria, VA 22313-1450; by telephone at 571-272-2846; or by e-mail to Howard.Staik@uspto.gov.

SUPPLEMENTARY INFORMATION:

I. Abstract

The USA Staffing system provided by the Office of Personnel Management (OPM) is an automated on-line system that allows the USPTO to rapidly review applications for employment of entry-level patent examiners. The Office of Human Resources (OHR), armed with a recommendation from a Supervisory Patent Examiner (SPE), can use the system to rapidly make an offer of employment and take the necessary administrative action to support the hiring process. In FY 2007, USA Staffing enabled the Patent Corps to hire more than 1,216 entry-level patent examiners.

Since the inception of USA Staffing in January 2007, the hiring process has become more effective and compliant with the examining requirements established by OPM. In the current employment environment, information technology professionals and engineering graduates are in great demand. The USPTO is in direct competition with private industry for the same caliber of candidates with the requisite knowledge and skills to perform patent examination work. Consequently, it is imperative that every available technology be employed if the USPTO is to remain competitive, meet hiring goals, and fulfill the agency's Congressional commitment to reduce the pendency rate for the examination of patent applications. The information supplied by an applicant seeking a patent examiner position with the USPTO assists the Human Resources Specialists and hiring managers in determining whether an applicant possesses the basic qualification requirements for the patent examiner position.

USA Staffing provides the USPTO with a user-friendly on-line employment application process for applicants and enables the USPTO to process hiring actions in an efficient and timely manner. The on-line application creates an electronic real-time candidate inventory that allows the USPTO to review applications from potential applicants almost instantaneously. Given the immediate hiring need of the Patent Examining Corps, time consumed in the mail distribution system or paper review of applications delays the decision-making process by several weeks. The USA Staffing system results in increased speed and accuracy in the employment process, in addition to streamlining labor and reducing costs.

The use of the USA Staffing on-line application fully complies with 5 U.S.C. 2301, which requires adequate public notice to assure open competition by guaranteeing that necessary employment information will be accessible and available to the public on inquiry. It is also fully compliant with Section 508 (29 U.S.C. 794(d)), which requires agencies to provide disabled employees and members of the public access to information that is comparable to the access available to others.

II. Method of Collection

With the use of USA Staffing, the application information is collected electronically from the applicant. Applicants contact the OPM USA Jobs Web site where they will find the on-line job announcement that links them to the application. The application is completed on-line and then transmitted to the USPTO via the Internet. For those applicants who do not have access to a personal computer, applications may be faxed to the OPM computer facility for processing.

III. Data

OMB Number: 0651-0042.

Form Number(s): N/A.

Type of Review: Revision of a currently approved collection.

Affected Public: Individuals or households.

Estimated Number of Respondents: 7,000 responses per year.

Estimated Time per Response: The USPTO estimates that it will take the public approximately 30 minutes (0.5 hours) to complete the employment application, depending upon the situation.

Estimated Total Annual Respondent Burden Hours: 3,500 hours per year.

Estimated Total Annual Respondent Cost Burden: $134,540. Using the median hourly rate for scientists and engineers of $38.44 as listed by the Bureau of Labor Statistics, the USPTO estimates $134,540 per year in cost burden associated with respondents. This is a fully-loaded hourly rate.

Item | Estimated time for response | Estimated annual responses | Estimated annual burden hours
Patent Examiner Employment Application | 30 minutes | 7,000 | 3,500
Total |  | 7,000 | 3,500

Estimated Total Annual (Non-hour) Respondent Cost Burden: $0. There are no capital start-up, maintenance, or record keeping costs, as well as no filing fees associated with this information collection. However there are annual (non-hour) costs in the form of postage costs.

Not every applicant can supply all of the required information electronically. The applicant does have the option to submit a `Paper Qualifications Questionnaire' and any supporting documents, such as resumes to the USPTO either by fax, mail or in person. The transcripts and other supporting materials are submitted to the USPTO the same way. These additional documents may be submitted to the USPTO by first-class mail through the United States Postal Service. The USPTO estimates that the average first-class postage is 97 cents. Therefore the USPTO estimates that it will receive 7,000 responses per year, for a total cost of $6,790 (7,000 × $0.97) in postage fees.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized or included in the request for OMB approval of this information collection; they will also become a matter of public record.

Dated: March 10, 2008.
Susan K. Fawcett,
Records Officer, USPTO, Office of the Chief Information Officer, Customer Information Services Group, Public Information Services Division.

[FR Doc. E8-5277 Filed 3-14-08; 8:45 am]

BILLING CODE 3510-16-P